DEPARTMENT OF VETERANS AFFAIRS

Privacy Act of 1974: System of Records

AGENCY: Office of Security and Law Enforcement, Office of Operations, Security and Preparedness, Department of Veterans Affairs (VA).

ACTION: Notice of a modified system of records.

SUMMARY: Pursuant to the Privacy Act of 1974, notice is hereby given that the Department of Veterans Affairs (VA) is amending the system of records entitled “Police and Security Records—VA” (103VA07B). VA is amending the system of records by updating the following sections: System Name and Number; System Location; System Manager(s); Record Source Categories; Routine Uses of Records Maintained in the System, Including Categories of Users and the Purposes of Such Uses; Policies and Practice for Storage of Records; Policies and Practices for Retrieval of Records; Policies and Practices for Retention and Disposal of Records; Record Access Procedure; Contesting Procedure; Notification Procedure; History. VA is republishing the system notice in its entirety.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to “Police and Security Records—VA” (103VA07B). Comments received will be available at regulations.gov for public viewing, inspection or copies.

FOR FURTHER INFORMATION CONTACT: Michael J. Franklin, Director, Police Service, 810 Vermont Avenue NW, Washington, DC 20420. Telephone (202) 461-5544.

SUPPLEMENTARY INFORMATION: The Office of Security and Law Enforcement oversees the maintenance of law and order and the protection of persons and property on Department property at facilities nationwide. This amended system of records covers Veterans, U.S. government employees, retirees, volunteers, contractors, subcontractors, or private citizens involved in certain Police Services activities at field facilities and Office of Security and Law Enforcement activities at VA Central Office. Records in the system are maintained electronically and on paper and are retrieved by the name of the individual or personal identifier such as partial or full social security number. The authority to maintain these records is Title 38, United States Code (U.S.C.), Section 501 and 901-905. The records in this system of records are necessary for the effective administration and management of the Department's nationwide Security and Law Enforcement program. This requires the collection and use of accurate, up-to-date data for the purpose of enforcing the law and protecting persons and property on VA property in accordance with Title 38, U.S.C., Chapter 9.

The following routine uses for information in this system are added or restate existing uses to this system:

1. Congress

To a Member of Congress or staff acting upon the Member's behalf when the Member or staff requests the information on behalf of, and at the request of, the individual who is the subject of the record.

2. Data Breach Response and Remediation, for VA

To appropriate agencies, entities, and persons when (1) VA suspects or has confirmed that there has been a breach of the system of records,· (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation, for Another Federal Agency

To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement

To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

5. DoJ, Litigation, Administrative Proceeding

To the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components

is a party to such proceedings or has an interest in such proceedings, and VA determines that use of such records is relevant and necessary to the proceedings.

6. Contractors

To contractors, grantees, experts, consultants, students, and others performing or working on a contract, service, grant, cooperative agreement, or other assignment for VA, when reasonably necessary to accomplish an agency function related to the records.

7. OPM

To the Office of Personnel Management (OPM) in connection with the application or effect of civil service laws, rules, regulations, or OPM guidelines in particular situations.

8. EEOC

To the Equal Employment Opportunity Commission (EEOC) in connection with investigations of alleged or possible discriminatory practices, examination of Federal affirmative employment programs, or other functions of the Commission as authorized by law.

9. FLRA

To the Federal Labor Relations Authority (FLRA) in connection with the investigation and resolution of allegations of unfair labor practices, the resolution of exceptions to arbitration awards when a question of material fact is raised, matters before the Federal Service Impasses Panel, and the investigation of representation petitions and the conduct or supervision of representation elections.

10. MSPB

To the Merit Systems Protection Board (MSPB) in connection with appeals, special studies of the civil service and other merit systems, review of rules and regulations, investigation of alleged or possible prohibited personnel practices, and such other functions promulgated in 5 U.S.C. 1205 and 1206, or as authorized by law.

11. NARA

To the National Archives and Records Administration (NARA) in records management inspections conducted under 44 U.S.C. 2904 and 2906, or other functions authorized by laws and policies governing NARA operations and VA records management responsibilities.

12. Federal Agencies, for Research

To a Federal agency for the purpose of conducting research and data analysis to perform a statutory purpose of that Federal agency upon the written request of that agency.

13. Researchers, for Research

To epidemiological and other research facilities approved by the Under Secretary for Health for research purposes determined to be necessary and proper, provided that the names and addresses of veterans and their dependents will not be disclosed unless those names and addresses are first provided to VA by the facilities making the request.

14. Federal Agencies, for Computer Matches

To other federal agencies for the purpose of conducting computer matches to obtain information to determine or verify eligibility of veterans receiving VA benefits or medical care under title 38.

15. Federal Agencies, Courts, Litigants, for Litigation or Administrative Proceedings

To another federal agency, court, or party in litigation before a court or in an administrative proceeding conducted by a Federal agency, when the government is a party to the judicial or administrative proceeding.

16. Governmental Agencies, Health Organizations, for Claimants' Benefits

To Federal, state, and local government agencies and national health organizations as reasonably necessary to assist in the development of programs that will be beneficial to claimants, to protect their rights under law, and assure that they are receiving all benefits to which they are entitled.

17. Governmental Agencies, for VA Hiring, Security Clearance, Contract, License, Grant

To a Federal, state, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

18. Federal Agencies, for Employment

To a Federal agency, except the United States Postal Service, or to the District of Columbia government, in response to its request, in connection with that agency's decision on the hiring, transfer, or retention of an employee, the issuance of a security clearance, the letting of a contract, or the issuance of a license, grant, or other benefit by that agency.

19. State or Local Agencies, for Employment

To a state, local, or other governmental agency, upon its official request, as relevant and necessary to that agency's decision on the hiring, transfer, or retention of an employee, the issuance of a security clearance, the letting of a contract, or the issuance of a license, grant, or other benefit by that agency. The disclosure of the names and addresses of veterans and their dependents from VA records under this routine use must also comply with the provisions of 38 U.S.C. 5701.

20. Federal Agencies, for Recovery of Medical Care Costs

To Federal agencies and government-wide third-party insurers responsible for payment of the cost of medical care for the identified patients, to seek recovery of the medical care costs. These records may also be disclosed as part of a computer matching program to accomplish this purpose.

21. Law Enforcement, for Locating Fugitive

To any Federal, state, local, territorial, tribal, or foreign law enforcement agency in order to identify, locate, or report a known fugitive felon, in compliance with 38 U.S.C. 5313B(d).

22. DOD, for Military Mission

To the Department of Defense, or its components, provided that the disclosure is limited to information regarding individuals treated under 38 U.S.C. 8111A, for the purpose deemed necessary by appropriate military command authorities to assure proper execution of the military

23. OMB

To the Office of Management and Budget (OMB) for the performance of its statutory responsibilities for evaluating Federal programs.

24. Federal Register, for Rulemaking

To make available for public review comments submitted in response to VA's solicitation of public comments as part of the agency's notice and rulemaking activities under the Administrative Procedure Act (APA), provided that the disclosure is limited to information necessary to comply with the requirements of the APA, if VA determines that release of personally identifiable information, such as an individual's telephone number, is integral to the public's understanding of the comment submitted.

In accordance with the Privacy Act of 1974, the notice of intent to publish and an advance copy of the system notice have been sent to the appropriate Congressional committees and to the Director, Office of Management and Budget.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on September 8, 2022 for publication.

Dated: October 18, 2022.
Amy L. Rose,
Program Analyst, VA Privacy Service, Office of Information Security, Office of Information and Technology, Department of Veterans Affairs.

SYSTEM NAME AND NUMBER

Police and Security Records—VA (103VA07B).

SECURITY CLASSIFICATION:

Unclassified.

SYSTEM LOCATION:

VA Police personnel maintains electronic and paper records at VA field facilities. Address locations for VA facilities can be found at http://www.va.gov.

SYSTEM MANAGER(S):

Conrad Hamp, Director, Law Enforcement Training Center, 2200 Fort Roots Drive, B193, North Little Rock, AR 72114.

AUTHORITY FOR MAINTENANCE OF THE SYSTEM:

38 U.S.C. 501; 38 U.S.C. 901-905.

PURPOSE(S) OF THE SYSTEM:

The records and information contained in this system of records are necessary for the effective administration and management of the Department's nationwide Security and Law Enforcement Program. The collection and use of accurate, up-to-date data is necessary for the purpose of enforcing the law and protecting persons and property on VA property. Examples: ID cards are used to visibly identify employees, contractors, students, and other designated individuals from the general public. ID cards also serve as a means of access control to a facility. Motor vehicle registration records serve to accurately identify the owner of a vehicle and the suitability of its presence on VA grounds. These records are also used for a VA facility's ride sharing program. Evidence or confiscated property records are used to accurately track and record the chain of custody maintained by the VA police.

CATEGORIES OF INDIVIDUALS COVERED BY THE SYSTEM:

Veterans, VA Police officers, U.S. government employees, retirees, contractors, subcontractors, volunteers, and other individuals, including private citizens, who:

1. Have been a complainant, a witness, a victim, or a subject of an investigation of a violation or of an alleged violation of a law on VA property;

2. Have been a witness or a victim when there has been a VA police response to a report of a missing patient;

3. Have been witness to, or involved in, a motor vehicle accident on VA property;

4. Have been a witness, victim, or subject when there has been a VA police response to provide assistance to VA employees;

5. Have registered a motor vehicle with VA police;

6. Have had property confiscated by VA police or whose property has been given to VA police for safekeeping; or

7. For whom a VA identification card has been prepared.

CATEGORIES OF RECORDS IN THE SYSTEM:

Police and law enforcement records, containing specific identification of persons, can be found in electronic and/or paper medium:

1. Master Name Index contains demographic information (i.e., name, address, date of birth, sex) and descriptive information such as height, weight, hair color, eye color, and scars or marks.

2. Quick Name Check allows for the immediate retrieval of information based on a name from files contained within the law enforcement records subject to this system of records notice.

3. VA Police Uniform Offense Reports, Investigative Notes, Case Log, and other documentation assembled during an investigation. Incident Reports contain information of all types of offenses and incidents, criminal and non-criminal, that occur at a facility and to which VA Police respond (e.g., criminal investigations, investigative stops, patient and staff assistance calls, missing patient searches, and motor vehicle accidents).

4. All violation information of U.S. District Court Violation Notices and Courtesy Warnings issued by VA Police.

5. On-station vehicle registration records used for identifying vehicle owners at a facility.

6. Daily Operations Journal records include names and other personal identifying information of persons with whom VA police have had official, duty-related contact.

7. Photographs of any scenes pertinent to an incident or investigation;

8. Motor vehicle registrations;

9. Identification cards with photographic images for veterans, U.S. government employees, retirees, volunteers, contractors, subcontractors, or private citizens;

10. Records of evidence, confiscated property, or property being held for safekeeping.

RECORD SOURCE CATEGORIES:

Information is obtained from Veterans, VA police officers, U.S. government employees, retirees, volunteers, contractors, subcontractors, other law enforcement agencies, and private citizens.

ROUTINE USES OF RECORDS MAINTAINED IN THE SYSTEM, INCLUDING CATEGORIES OF USERS AND THE PURPOSES OF SUCH USES:

25. Congress

To a Member of Congress or staff acting upon the Member's behalf when the Member or staff requests the information on behalf of, and at the request of, the individual who is the subject of the record.

26. Data Breach Response and Remediation, for VA

To appropriate agencies, entities, and persons when (1) VA suspects or has confirmed that there has been a breach of the system of records,· (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

27. Data Breach Response and Remediation, for Another Federal Agency

To another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

28. Law Enforcement

To a Federal, state, local, territorial, tribal, or foreign law enforcement authority or other appropriate entity charged with the responsibility of investigating or prosecuting such violation or charged with enforcing or implementing such law, provided that the disclosure is limited to information that, either alone or in conjunction with other information, indicates a violation or potential violation of law, whether civil, criminal, or regulatory in nature. The disclosure of the names and addresses of veterans and their dependents from VA records under this routine use must also comply with the provisions of 38 U.S.C. 5701.

29. DoJ, Litigation, Administrative Proceeding

To the Department of Justice (DoJ), or in a proceeding before a court, adjudicative body, or other administrative body before which VA is authorized to appear, when:

(e) VA or any component thereof;

(f) Any VA employee in his or her official capacity;

(g) Any VA employee in his or her individual capacity where DoJ has agreed to represent the employee; or

(h) The United States, where VA determines that litigation is likely to affect the agency or any of its components

is a party to such proceedings or has an interest in such proceedings, and VA determines that use of such records is relevant and necessary to the proceedings.

30. Contractors

To contractors, grantees, experts, consultants, students, and others performing or working on a contract, service, grant, cooperative agreement, or other assignment for VA, when reasonably necessary to accomplish an agency function related to the records.

31. OPM

To the Office of Personnel Management (OPM) in connection with the application or effect of civil service laws, rules, regulations, or OPM guidelines in particular situations.

32. EEOC

To the Equal Employment Opportunity Commission (EEOC) in connection with investigations of alleged or possible discriminatory practices, examination of Federal affirmative employment programs, or other functions of the Commission as authorized by law.

33. FLRA

To the Federal Labor Relations Authority (FLRA) in connection with the investigation and resolution of allegations of unfair labor practices, the resolution of exceptions to arbitration awards when a question of material fact is raised, matters before the Federal Service Impasses Panel, and the investigation of representation petitions and the conduct or supervision of representation elections.

34. MSPB

To the Merit Systems Protection Board (MSPB) in connection with appeals, special studies of the civil service and other merit systems, review of rules and regulations, investigation of alleged or possible prohibited personnel practices, and such other functions promulgated in 5 U.S.C. 1205 and 1206, or as authorized by law.

35. NARA

To the National Archives and Records Administration (NARA) in records management inspections conducted under 44 U.S.C. 2904 and 2906, or other functions authorized by laws and policies governing NARA operations and VA records management responsibilities.

36. Federal Agencies, for Research

To a Federal agency for the purpose of conducting research and data analysis to perform a statutory purpose of that Federal agency upon the written request of that agency.

37. Researchers, for Research

To epidemiological and other research facilities approved by the Under Secretary for Health for research purposes determined to be necessary and proper, provided that the names and addresses of veterans and their dependents will not be disclosed unless those names and addresses are first provided to VA by the facilities making the request.

38. Federal Agencies, for Computer Matches

To other federal agencies for the purpose of conducting computer matches to obtain information to determine or verify eligibility of veterans receiving VA benefits or medical care under title 38.

39. Federal Agencies, Courts, Litigants, for Litigation or Administrative Proceedings

To another federal agency, court, or party in litigation before a court or in an administrative proceeding conducted by a Federal agency, when the government is a party to the judicial or administrative proceeding.

40. Governmental Agencies, Health Organizations, for Claimants' Benefits

To Federal, state, and local government agencies and national health organizations as reasonably necessary to assist in the development of programs that will be beneficial to claimants, to protect their rights under law, and assure that they are receiving all benefits to which they are entitled.

41. Governmental Agencies, for VA Hiring, Security Clearance, Contract, License, Grant

To a Federal, state, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of veterans and their dependents from VA records under this routine use must also comply with the provisions of 38 U.S.C. 5701.

42. Federal Agencies, for Employment

To a Federal agency, except the United States Postal Service, or to the District of Columbia government, in response to its request, in connection with that agency's decision on the hiring, transfer, or retention of an employee, the issuance of a security clearance, the letting of a contract, or the issuance of a license, grant, or other benefit by that agency.

43. State or Local Agencies, for Employment

To a state, local, or other governmental agency, upon its official request, as relevant and necessary to that agency's decision on the hiring, transfer, or retention of an employee, the issuance of a security clearance, the letting of a contract, or the issuance of a license, grant, or other benefit by that agency. The disclosure of the names and addresses of veterans and their dependents from VA records under this routine use must also comply with the provisions of 38 U.S.C. 5701.

44. Federal Agencies, for Recovery of Medical Care Costs

To Federal agencies and government-wide third-party insurers responsible for payment of the cost of medical care for the identified patients, to seek recovery of the medical care costs. These records may also be disclosed as part of a computer matching program to accomplish this purpose.

45. Law Enforcement, for Locating Fugitive

To any Federal, state, local, territorial, tribal, or foreign law enforcement agency in order to identify, locate, or report a known fugitive felon, in compliance with 38 U.S.C. 5313B(d).

46. DOD, for Military Mission

To the Department of Defense, or its components, provided that the disclosure is limited to information regarding individuals treated under 38 U.S.C. 8111A, for the purpose deemed necessary by appropriate military command authorities to assure proper execution of the military

47. OMB

To the Office of Management and Budget (OMB) for the performance of its statutory responsibilities for evaluating Federal programs.

48. Federal Register, for Rulemaking

To make available for public review comments submitted in response to VA's solicitation of public comments as part of the agency's notice and rulemaking activities under the Administrative Procedure Act (APA), provided that the disclosure is limited to information necessary to comply with the requirements of the APA, if VA determines that release of personally identifiable information, such as an individual's telephone number, is integral to the public's understanding of the comment submitted.

POLICIES AND PRACTICES FOR STORAGE OF RECORDS:

VA Police Services maintain electronic and paper records at each VA facility.

POLICIES AND PRACTICES FOR RETRIEVAL OF RECORDS:

Records are retrieved by name, partial or full social security number, or other personal identifiers.

POLICIES AND PRACTICES FOR RETENTION AND DISPOSAL OF RECORDS:

Records will be maintained and disposed of in accordance with the records disposition authority approved by the Archivist of the United States, Veterans Health Administration Records Control Schedule 10-1, Item 5252.25.

ADMINISTRATIVE, TECHNICAL, AND PHYSICAL SAFEGUARDS:

Access to working areas where information is maintained in VA facilities is controlled and restricted to VA employees and VA contractors on a need-to-know basis. Paper document files are locked in a secure container when files are not being used and when work area is not occupied. VA facilities are protected from outside access after normal duty hours by police or security personnel. Access to information on electronic media is controlled by individually unique passwords and codes. Computer access authorizations, computer applications available and used, information access attempts, frequency and time of use are recorded and monitored.

RECORD ACCESS PROCEDURES:

Individuals seeking information on the existence and content of records in this system pertaining to them should write, call or visit the VA facility where the records are maintained.

CONTESTING RECORD PROCEDURES:

Individuals seeking to contest or amend records in this system pertaining to them should write, call or visit the VA facility where the records are maintained. A request to contest or amend records must state clearly and concisely what record is being contested, the reasons for contesting it, and the proposed amendment to the record. A majority of records in this system are exempt from record access and amendment provisions of Title 5 U.S.C., Sections 552a(j) and (k). To the extent that records in this system are not subject to exemption, individuals may request access and/or amendment. A determination as to whether an exemption applies shall be made at the time a request for access or contest is received.

NOTIFICATION PROCEDURES:

Generalized notice is provided by the publication of this notice. For specific notice, see Record Access Procedure, above.

EXEMPTIONS PROMULGATED FOR THE SYSTEM:

Under Title 5 U.S.C., Section 552a(j)(2), the head of any agency may exempt any system of records within the agency from certain provisions of the Privacy Act, if the agency or component that maintains the system performs as its principal function any activities pertaining to the enforcement of criminal laws. The function of the Police Service is to provide for the maintenance of law and order and the protection of persons and property on Department property. This system of records has been created, in major part, to support the law enforcement related activities assigned by the Department under the authority of Title 38 U.S.C., Section 901 to the Police Service. These activities constitute the principal function of this staff.

In addition to principal functions pertaining to the enforcement of criminal laws, the Police Service may receive and investigate complaints or information from various sources concerning the possible existence of activities constituting noncriminal violations of law, rules, or regulations or substantial and specific danger to the public and safety.

Based upon the foregoing, the Secretary of Veterans Affairs (VA) has exempted this system of records, to the extent that it encompasses information pertaining to criminal law enforcement related activities from the following provisions of the Privacy Act of 1974, as permitted by 5 U.S.C. 552a(j)(2):

5 U.S.C. 552a(c)(3) and (4).

5 U.S.C. 552a(d)(1) through (4).

5 U.S.C. 552a(e)(1), (2) and (3).

5 U.S.C. 552a(e)(4)(G), (H) and (I). 5 U.S.C. 552a(e)(5) and (8).

5 U.S.C. 552a(f).

5 U.S.C. 552a(g).

The Secretary of Veterans Affairs has exempted this system of records, to the extent that it does not encompass information pertaining to criminal law enforcement related activities under 5 U.S.C. 552a(j)(2), from the following provisions of the Privacy Act of 1974, as permitted by 5 U.S.C. 552a(k)(2):

5 U.S.C. 552a(c)(3).

5 U.S.C. 552a(d)(1) through (4). 5 U.S.C. 552a(e)(1).

5 U.S.C. 552a(e)(4)(G), (H) and (I). 5 U.S.C. 552a(f).

Reasons for exemptions: The exemption of information and material in this system of records is necessary in order to accomplish the law enforcement functions of the Police Service, to prevent subjects of investigations from frustrating the investigatory process, to prevent the disclosure of investigative techniques, to fulfill commitments made to protect the confidentiality of sources, to maintain access to sources of information, and to avoid endangering these sources and Police personnel.

HISTORY:

67 FR 77737 (December 19, 2002); 73 FR 74580 (December 8, 2008).

[FR Doc. 2022-22899 Filed 10-20-22; 8:45 am]

BILLING CODE 8320-01-P